TENNESSEE VALLEY AUTHORITY

Paperwork Reduction Act of 1995, as Amended by Public Law 104-13; Submission for OMB Review; Comment Request

AGENCY: Tennessee Valley Authority.

ACTION: Proposed collection; comment request.

SUMMARY: The proposed information collection described below will be submitted to the Office of Management and Budget (OMB) for review, as required by the Paperwork Reduction Act of 1995 (44 U.S.C. Chapter 35, as amended). The Tennessee Valley Authority is soliciting public comments on the proposed collection as provided by 5 CFR 1320.8(d)(1). Requests for information, including copies of the information collection proposed and supporting documentation, should be directed to the Agency Clearance Officer: Mark R. Winter, Tennessee Valley Authority, 1101 Market Street (MP 3C), Chattanooga, Tennessee 37402-2801; (423) 751-6004.

Comments should be sent to OMB Office of Information & Regulatory Affairs, Attention: Desk Officer for Tennessee Valley Authority, no later than December 23, 2009.

SUPPLEMENTARY INFORMATION: Type of Request: Regular Submission; proposal for new data collection.

Title of Information Collection: Reservoir Land Management Plan.

Frequency of Use: On occasion.

Type of Affected Public: Individuals or households, business or other for-profit, non-profit institutions, farms, Federal Government, and State or local governments.

Small Business or Organizations Affected: Yes.

Estimated Number of Annual Responses: 1,000.

Estimated Total Annual Burden Hours: 250.

Estimated Average Burden Hours per Response: .25 hour.

Need For and Use of Information: As part of TVA's efforts to update Reservoir Land Management Plans, TVA will conduct surveys to gather public input from the public regarding zoning allocations for TVA properties. Information gathered will be used to satisfy the requirements of the NEPA public input process and will be used to aid TVA in making zone allocation decisions regarding use of TVA lands.

James W. Sample,
Director of CyberSecurity.

[FR Doc. E9-27990 Filed 11-20-09; 8:45 am]

BILLING CODE 8120-08-P